OFFICE OF PERSONNEL MANAGEMENT

5 CFR Part 330

Recruitment, Selection, and Placement (General)

CFR Correction

In Title 5 of the Code of Federal Regulations, parts 1 to 699, revised as of January 1, 2000, on page 210, in the second column, the first §330.702 is removed.

[FR Doc. 00-55516 Filed 10-24-00; 8:45 am]

BILLING CODE 1505-01-D